ENVIRONMENTAL PROTECTION AGENCY

[EPA-HQ-OPP-2010-0421; FRL-8826-1]

Pesticide Products; Registration Applications

AGENCY: Environmental Protection Agency (EPA).

ACTION: Notice.

SUMMARY: EPA has received applications to register pesticide products containing Fluxapyroxad, an active ingredient not included in any previously registered pesticide product. Pursuant to the provisions of section 3(c)(4) of the Federal Insecticide, Fungicide, and Rodenticide Act (FIFRA), EPA is hereby providing notice of receipt and opportunity to comment on these applications.

DATES: Comments must be received on or before July 6, 2010.

ADDRESSES: Submit your comments, identified by docket identification (ID) number EPA-HQ-OPP-2010-0421, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility’s normal hours of operation (8:30 a.m. to 4 p.m., Monday through Friday, excluding legal holidays). Special arrangements should be made for deliveries of boxed information. The Docket Facility telephone number is (703) 305-5805.

Instructions: Direct your comments to docket ID number EPA-HQ-OPP-2010-0421. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although, listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Olga Odiott, Registration Division (7505P), Office of Pesticide Programs, Environmental Protection Agency, 1200 Pennsylvania Ave., NW., Washington, DC 20460-0001; telephone number: (703) 308-9369; e-mail address: [odiott.olga]@epa.gov.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Registration Applications

EPA has received applications to register pesticide products containing Fluxapyroxad, an active ingredient not included in any previously registered pesticide product. Pursuant to the provisions of section 3(c)(4) of FIFRA, EPA is hereby providing notice of receipt and opportunity to comment on these applications. Notice of receipt of these applications does not imply a decision by the Agency on these applications. EPA received the following pesticide registration applications from BASF Corporation, 26, Davis Drive, P.O. Box 13528, Research Triangle Park, NC 27709-3528.

1. File Symbol: 7969-GRE. Product name: Xemium Fungicide Technical. Active ingredient: Fluxapyroxad at 98.9%. Proposed use: Formulation into fungicide products.

2. File Symbol: 7969-GNA. Product name: BAS 700 01 F. Active ingredient: Fluxapyroxad at 5.96%. Propose uses: Barley, corn, dried shelled peas and beans, edible podded legumes vegetables, fruiting vegetables, oat, oilseed crops (including canola, flax, and sunflower), peanut, pome fruits, rye, soybean, stone fruits, succulent shelled peas and beans, sugar beet, tuberous and corm vegetables (including potato) wheat, and triticale.

3. File Symbol: 7969-GNT Product name: BAS 700 02 F. Active ingredient: Fluxapyroxad at 28.78%. Proposed uses: Seed treatment use on barley, corn, cotton, dried shelled peas and beans, edible podded legume vegetables, oat, peanut, rye, sorghum, soybean, sunflower, wheat, and triticale seed.

4. File Symbol: 7969-GNI. Product name: BAS 700 03 F. Active ingredient: Fluxapyroxad at 28.70%. Proposed uses: Seed treatment use on barley, corn, cotton, dried shelled peas and beans, edible podded legume vegetables, oat, peanut, rye, sorghum, soybean, sunflower, wheat, and triticale seed.

5. File Symbol: 7969-GNO. Product name: BAS 700 04 F. Active ingredient: Fluxapyroxad at 26.55%. Proposed uses: Barley, corn, dried shelled peas and beans, edible podded legumes vegetables, fruiting vegetables, oat, oilseed crops (including canola, flax, and sunflower), peanut, pome fruits, rye, soybean, stone fruits, succulent shelled peas and beans, sugar beet, tuberous and corm vegetables (including potato), wheat, and triticale.

6. File Symbol: 7969-GRN. Product name: BAS 703 01 F. Active ingredient: Fluxapyroxad at 21.26% and Pyraclostrobin at 21.26 %. Proposed uses: Dried shelled peas and beans, edible podded legumes vegetables, fruiting vegetables (including tomato), oilseed crops (including canola, flax, and sunflower), pome fruits, soybean, stone fruits, succulent shelled peas and beans, and tuberous and corm vegetables (including potato).

7. File Symbol: 7969-GRR. Product name: BAS 703 02 F. Active ingredient: Fluxapyroxad at 14.33% and Pyraclostrobin at 28.58% Proposed uses: Barley, corn, fruiting vegetables (including tomato), oat, oilseed crops (including canola, flax, and sunflower), peanut, rye, soybean, sugar beet, tuberous and corm vegetables, (including potato), wheat, and triticale.

List of Subjects

Environmental protection, Pesticides and pest.

Dated: May 26, 2010.
Daniel J. Rosenblatt,
Acting Director, Registration Division, Office of Pesticide Programs.

[FR Doc. 2010-13358 Filed 6-3-10; 8:45 am]

BILLING CODE 6560-50-S